ENVIRONMENTAL PROTECTION AGENCY

[EPA-HQ-OPP-2009-1017; FRL-8878-7]

Product Cancellation Order for Certain Pesticide Registrations

AGENCY: Environmental Protection Agency (EPA).

ACTION: Notice.

SUMMARY: This notice announces EPA's order for the cancellations, voluntarily requested by the registrants and accepted by the Agency, of the products listed in Tables 1, 2, and 3 of Unit II., pursuant to section 6(f)(1) of the Federal Insecticide, Fungicide, and Rodenticide Act (FIFRA), as amended. This cancellation order follows a May 4, 2011 Federal Register Notice of Receipt of Requests from the registrants listed in Table 4 of Unit II. to voluntarily cancel these product registrations. In the May 4, 2011 notice, EPA indicated that it would issue an order implementing the cancellations, unless the Agency received substantive comments within the 30-day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective July 8, 2011.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; fax number: (703) 308-8090; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2009-1017. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the cancellation, as requested by registrants, of 124 products registered under FIFRA section 3. These registrations are listed in sequence by registration number in Tables 1, 2, and 3 of this unit.

Table 1—Product Cancellations
EPA registration No. | Product name | Chemical name
000056-00056 | J.T. Eaton Answer for Mice Feeder Box | Chlorophacinone.
000056-00069 | J.T. Eaton Answer for Rats Feeder Box | Chlorophacinone.
01020-00008 | Oakite Steri-Det | Alkyl * dimethyl benzyl ammonium chloride *(60% C14, 30% C16, 5% C18, 5% C12). Alkyl * dimethyl ethyl ammonium chloride *(50% C12, 30% C14, 17% C16, 3% C18).
001022-00523 | Cunapsol-2 | Copper naphthenate.
001448-00054 | Nabe-M | Carbamodithioic acid, methyl-monopotassium salt. Carbamodithioic acid, cyano-disodium salt.
005481-00551 | Ambush 4E Insecticide | Permethrin.
006836-00057 | Barquat 42Z-10 | Alkyl * dimethyl benzyl ammonium chloride *(60% C14, 30% C16, 5% C18, 5% C12). Alkyl * dimethyl ethylbenzyl ammonium chloride *(68% C12, 32% C14).
006836-00270 | Barquat 42Z-10F | Alkyl * dimethyl benzyl ammonium chloride *(60% C14, 30% C16, 5% C18, 5% C12). Alkyl * dimethyl ethylbenzyl ammonium chloride *(68% C12, 32% C14).
007792-00005 | Roebic Root Endz | Copper sulfate pentahydrate.
009688-00070 | Chemsico Roach Control System I | Tralomethrin.
009688-00078 | Chemsico Tralomethrin Indoor Fogger | Tralomethrin.
009688-00080 | Chemsico Home Insect Control A | Tralomethrin.
009688-00081 | Chemsico Home Insect Control B | Tralomethrin.
009688-00082 | Chemsico Tralomethrin Flea Killer | Tralomethrin.
009688-00087 | Chemsico Home Insect Control D | Tralomethrin.
009688-00091 | Chemsico Home Insect Control Refill | Tralomethrin.
009688-00098 | Chemsico Home Insect Control E | Tralomethrin.
009688-00101 | Chemsico Home Insect Control E Refill | Tralomethrin.
009688-00113 | Chemsico Tralomethrin Insecticide D | Tralomethrin.
009688-00119 | Green Thumb Home Insect Fogger | Tralomethrin.
009688-00144 | Dethmor 3.75% EC | Tralomethrin.
009688-00147 | Chemsico Indoor Fogger G | Tralomethrin.
009688-00152 | Saga WP Insecticide 228 | Tralomethrin.
009688-00153 | Saga Multi-purpose Home Pest Control Insecticide | Tralomethrin.
009688-00166 | Chemsico Insect Control CP | Tralomethrin.
009688-00167 | Aerosol Insecticide IT-B | Imiprothrin. Tralomethrin.
009688-00170 | Chemsico Aerosol Insecticide IT-D | Imiprothrin. Tralomethrin.
009688-00171 | Chemsico Aerosol Insecticide IT-C | Imiprothrin. Tralomethrin.
009688-00172 | Chemsico Insect Granules Formula T | Tralomethrin.
009688-00185 | Chemsico Tralomethrin Insecticide C | Prallethrin. Tralomethrin.
009688-00194 | Chemsico Wasp & Hornet Killer TE | Prallethrin. Tralomethrin.
009688-00204 | Chemsico Insecticide Concentrate T | Tralomethrin.
009688-00275 | Chemsico Insecticide RTU OP-M | Pyrethrins.
047000-00139 | Permethrin Dust 0.25% | Permethrin.
047371-00137 | Formulation RTU-6075 | Alkyl * dimethyl benzyl ammonium chloride *(60% C14, 30% C16, 5% C18, 5% C12). Alkyl * dimethyl ethylbenzyl ammonium chloride *(50% C12, 30% C14, 17% C16, 3% C18).
048273-00023 | Marman Malathion | Malathion.
048273-00026 | Marman Malathion 56 EC | Malathion.
062719-00308 | Vista | Fluroxypyr 1-methylheptyl ester.

Table 2—Cancellations of Registrations Containing Methyl Bromide
EPA registration number | Product name | Chemical name
003377-00009 | Methyl Bromide Technical | Methyl bromide.
005785-00023 | Terr-O-Gas 45 | Chloropicrin. Methyl bromide.
008622-00040 | 57-43 Preplant Soil Fumigant | Methyl bromide. Chloropicrin.
008622-00044 | 80-20 Preplant Soil Fumigant | Methyl bromide. Chloropicrin.

Table 3 contains a list of registrations for which companies paying at one of the maintenance fee caps requested cancellation in the FY 2011 maintenance fee billing cycle. Because maintaining these registrations as active would require no additional fee, the Agency is treating these requests as voluntary cancellations under 6(f)(1).

Table 3—Cancellations of Products Due to Non-Payment of Maintenance Fees
EPA registration No. | Product name | Chemical name
000400-00069 | B-Nine | Daminozide.
000400-00500 | Floramite Ls | Bifenazate.
000400-00501 | Floramite GN | Bifenazate.
006836-00022 | Lonza Disinfectant Cleaner (30-3) | 1-Decanaminium, N-decyl-N,N-dimethyl-, chloride.
006836-00027 | Lonza Disinfectant Cleaner (47-5) | 1-Decanaminium, N-decyl-N,N-dimethyl-, chloride.
006836-00034 | Lonza Formulation 71-30 | 1-Decanaminium, N-decyl-N,N-dimethyl-, chloride. 1-Octanaminium, N,N-dimethyl-N-octyl-, chloride. 1-Decanaminium, N,N-dimethyl-N-octyl-, chloride.
006836-00037 | Lonza Formulation 68-16 | 1-Decanaminium, N-decyl-N,N-dimethyl-, chloride. 1-Octanaminium, N,N-dimethyl-N-octyl-, chloride. 1-Decanaminium, N,N-dimethyl-N-octyl-, chloride.
006836-00072 | Lonza Formulation S-37 | 1-Decanaminium, N-decyl-N,N-dimethyl-, chloride. 1-Octanaminium, N,N-dimethyl-N-octyl-, chloride. 1-Decanaminium, N,N-dimethyl-N-octyl-, chloride. Alkyl* dimethyl benzyl ammonium chloride *(50%C14, 40%C12, 10%C16).
006836-00099 | Formulation 100a | Alkyl* dimethyl benzyl ammonium chloride *(50%C14, 40%C12, 10%C16).
006836-00100 | Formulation DC 100b | Alkyl* dimethyl benzyl ammonium chloride *(50%C14, 40%C12, 10%C16).
006836-00101 | Formulation DC 100C | Alkyl* dimethyl benzyl ammonium chloride *(50%C14, 40%C12, 10%C16).
006836-00102 | Formulation 100 D | Alkyl* dimethyl benzyl ammonium chloride *(50%C14, 40%C12, 10%C16).
006836-00105 | Rohm and Haas DC-100 G | Alkyl* dimethyl benzyl ammonium chloride *(50%C14, 40%C12, 10%C16).
006836-00137 | Lonza Formulation S-37f | 1-Decanaminium, N-decyl-N,N-dimethyl-, chloride. 1-Octanaminium, N,N-dimethyl-N-octyl-, chloride. 1-Decanaminium, N,N-dimethyl-N-octyl-, chloride. Alkyl* dimethyl benzyl ammonium chloride *(50%C14, 40%C12, 10%C16).
006836-00141 | Lonza Formulation 70-12f | 1-Decanaminium, N-decyl-N,N-dimethyl-, chloride, 1-Octanaminium, N,N-dimethyl-N-octyl-, chloride. 1-Decanaminium, N,N-dimethyl-N-octyl-, chloride. Alkyl* dimethyl benzyl ammonium chloride *(50%C14, 40%C12, 10%C16).
006836-00158 | Bio Guard Swimming Pool Algicide 28-10 | Alkyl* dimethyl benzyl ammonium chloride *(58%C14, 28%C16, 14%C12).
006836-00178 | Bio-Guard M-38 Disinfectant, Cleaner, Deodorant | Alkyl* dimethyl benzyl ammonium chloride *(58%C14, 28%C16, 14%C12).
006836-00179 | Bio-Guard L-38 | Alkyl* dimethyl benzyl ammonium chloride *(58%C14, 28%C16, 14%C12).
006836-00181 | Lonza Formulation LS-22 | Alkyl* dimethyl benzyl ammonium chloride *(58%C14, 28%C16, 14%C12).
006836-00185 | Bio-Guard L-76 | Alkyl* dimethyl benzyl ammonium chloride *(58%C14, 28%C16, 14%C12).
006836-00215 | Barquat Molluscicide 80 | Alkyl* dimethyl benzyl ammonium chloride *(50%C14, 40%C12, 10%C16).
006836-00222 | Bath Master | 1-Decanaminium, N-decyl-N,N-dimethyl-, chloride 1-Octanaminium, N,N-dimethyl-N-octyl-, chloride. 1-Decanaminium, N,N-dimethyl-N-octyl-, chloride. Alkyl* dimethyl benzyl ammonium chloride *(50%C14, 40%C12, 10%C16).
006836-00223 | Bath Master (refill) | 1-Decanaminium, N-decyl-N,N-dimethyl-, chloride 1-Octanaminium, N,N-dimethyl-N-octyl-, chloride. 1-Decanaminium, N,N-dimethyl-N-octyl-, chloride. Alkyl* dimethyl benzyl ammonium chloride *(50%C14, 40%C12, 10%C16).
006836-00224 | Smart AB | 1-Decanaminium, N-decyl-N,N-dimethyl-, chloride. 1-Octanaminium, N,N-dimethyl-N-octyl-, chloride. 1-Decanaminium, N,N-dimethyl-N-octyl-, chloride. Alkyl* dimethyl benzyl ammonium chloride *(50%C14, 40%C12, 10%C16).
006836-00225 | Smart AB Refill | 1-Decanaminium, N-decyl-N,N-dimethyl-, chloride. 1-Octanaminium, N,N-dimethyl-N-octyl-, chloride. 1-Decanaminium, N,N-dimethyl-N-octyl-, chloride. Alkyl* dimethyl benzyl ammonium chloride *(50%C14, 40%C12, 10%C16).
006836-00232 | Bardac 22-50 | 1-Decanaminium, N-decyl-N,N-dimethyl-, chloride.
006836-00246 | Lonza Barquat 1552-5% | Dialkyl* methyl benzyl ammonium chloride *(60% C14, 30% C16, 5% C18, 5% C12). Alkyl* dimethyl benzyl ammonium chloride *(60%C14, 30%C16, 5%C18, 5%C12).
006836-00260 | Barquat WP 50 | Alkyl* dimethyl benzyl ammonium chloride *(67%C12, 25%C14, 7%C16, 1%C18).
043813-00033 | Bethoguard Technical | Bethoxazin.
043813-00034 | Bethoguard Biocide | Bethoxazin.
043813-00035 | Bethoguard 300 SC | Bethoxazin.
047371-00002 | Formulation HS-64Q | Alkyl* dimethyl benzyl ammonium chloride *(60%C14, 30%C16, 5%C18, 5%C12). Alkyl* dimethyl ethylbenzyl ammonium chloride *(50%C12, 30%C14, 17%C16, 3%C18).
047371-00007 | Formulation HS-821Q | 1-Decanaminium, N-decyl-N,N-dimethyl-, chloride. Alkyl* dimethyl benzyl ammonium chloride *(50%C14, 40%C12, 10%C16).
047371-00008 | Formulation HS-256Q | Alkyl* dimethyl benzyl ammonium chloride *(60%C14, 30%C16, 5%C18, 5%C12). Alkyl* dimethyl ethylbenzyl ammonium chloride *(68%C12, 32%C14).
047371-00009 | Quanto A Germicidal Detergent | Alkyl* dimethyl benzyl ammonium chloride *(60%C14, 30%C16, 5%C18, 5%C12). Alkyl* dimethyl ethylbenzyl ammonium chloride *(68%C12, 32%C14).
047371-00029 | Formulation Hl-69d | Alkyl* dimethyl benzyl ammonium chloride *(60%C14, 30%C16, 5%C18, 5%C12). Tributyltin oxide.
047371-00038 | HS-Q Germicidal Concentrate | Alkyl* dimethyl benzyl ammonium chloride *(50%C14, 40%C12, 10%C16).
047371-00041 | Formulation HS-56P | Alkyl* dimethyl ethylbenzyl ammonium chloride *(68%C12, 32%C14). Alkyl* dimethyl benzyl ammonium chloride *(60%C14, 30%C16, 5%C18, 5%C12).
047371-00048 | Formulation AE-3328 | Alkyl* dimethyl ethylbenzyl ammonium chloride *(68%C12, 32%C14). Alkyl* dimethyl benzyl ammonium chloride *(60%C14, 30%C16, 5% 5%C18, 5%C12).
047371-00054 | Formulation HS 210-37 | 1-Decanaminium, N-decyl-N,N-dimethyl-, chloride.
047371-00056 | HS-1210 Swimming Pool Algaecide | 1-Decanaminium, N-decyl-N,N-dimethyl-, chloride. Alkyl* dimethyl benzyl ammonium chloride *(50%C14, 40%C12, 10%C16).
047371-00074 | Pow-256 Powdered Germicidal Detergent | Alkyl* dimethyl ethylbenzyl ammonium chloride *(68%C12, 32%C14). Alkyl* dimethyl benzyl ammonium chloride *(60%C14, 30%C16, 5%C18, 5%C12).
047371-00077 | Formulation HTA-64 Disinfectant | Alkyl* dimethyl ethylbenzyl ammonium chloride *(68%C12, 32%C14). Alkyl* dimethyl benzyl ammonium chloride *(60%C14, 30%C16, 5%C18, 5%C12).
047371-00098 | HS-451 Swimming Pool Algaecide | Alkyl* dimethyl benzyl ammonium chloride *(50%C14, 40%C12, 10%C16).
047371-00141 | Formulation HH-652 Q | Alkyl* dimethyl benzyl ammonium chloride *(50%C14, 40%C12, 10%C16). 1-Decanaminium, N-decyl-N,N-dimethyl-, chloride.
047371-00142 | Formulation HTA-96 | Alkyl* dimethyl ethylbenzyl ammonium chloride *(68%C12, 32%C14). Alkyl* dimethyl benzyl ammonium chloride *(60%C14, 30%C16, 5%C18, 5%C12).
047371-00143 | HS-96 Disinfectant Bowl Cleaner | Alkyl* dimethyl ethylbenzyl ammonium chloride *(50%C12, 30%C14, 17%C16, 3%C18). Alkyl* dimethyl benzyl ammonium chloride *(60%C14, 30%C16, 5%C18, 5%C12).
047371-00145 | HS-210 Laundry Mildew and Bacteriostat (10%) | 1-Decanaminium, N-decyl-N,N-dimethyl-, chloride.
047371-00150 | TB-910 Disinfectant Bowl Cleaner & Deodorant | Hydrochloric acid. 1-Decanaminium, N-decyl-N,N-dimethyl-, chloride.
047371-00155 | Formulation RTU-6075a | Alkyl* dimethyl ethylbenzyl ammonium chloride *(50%C12, 30%C14, 17%C16, 3%C18). Alkyl* dimethyl benzyl ammonium chloride *(60%C14, 30%C16, 5%C18, 5%C12).
047371-00157 | Formulation RTU-6075(la) | Alkyl* dimethyl ethylbenzyl ammonium chloride *(50%C12, 30%C14, 17%C16, 3%C18). Alkyl* dimethyl benzyl ammonium chloride *(60%C14, 30%C16, 5%C18, 5%C12).
047371-00165 | HS-451 Waterbed Microbiocide | Alkyl* dimethyl benzyl ammonium chloride *(50%C14, 40%C12, 10%C16).
047371-00172 | TB-A165 Disinfectant Bowl Cleaner | Hydrochloric acid. 1-Decanaminium, N-decyl-N,N-dimethyl-, chloride.
047371-00184 | HS-210 Sap Stain Control | 1-Decanaminium, N-decyl-N,N-dimethyl-, chloride.
073049-00360 | Tralex FA 3.75% EC | Tralomethrin.
073049-00401 | Tralex MUP | Tralomethrin.
073049-00459 | Ultra TEC DS Yard and Patio Spray | S-Bioallethrin. Deltamethrin.
CA780167 | Comite Agricultural Miticide | Propargite.
CA940008 | Omite-30WS Agricultural Miticide | Propargite.
DE040003 | Acramite 50WS | Bifenazate.
ID070010 | Acramite-4SC | Bifenazate.
ID070013 | Acramite-4SC | Bifenazate.
ID910015 | Comite Agricultural Miticide | Propargite.
ID940011 | Comite Agricultural Miticide | Propargite.
ID910015 | Comite Agricultural Miticide | Propargite.
KS950001 | Comite II | Progargite.
MT900001 | Comite Agricultural Miticide | Propargite.
ND050005 | Dimilin 2l | Diflubenzuron.
NV870009 | Comite Agricultural Miticide | Propargite.
OR080010 | Comite Agricultural Miticide | Propargite.
OR080015 | Comite | Propargite.
OR080029 | Acramite-4SC | Bifenazate.
OR080030 | Acramite-4SC | Bifenazate.
SC910003 | Comite Agricultural Miticide | Propargite.
TN080006 | Temprano | Abamectin.
TX940006 | Comite II | Propargite.
UT960006 | Comite Agricultural Miticide | Propargite.
WA040020 | Comite—Potato SLN | Propargite.
WA080009 | Acramite-4SC | Bifenazate.
WA080011 | Acramite-4SC | Bifenazate.
WA870029 | Comite Agricultural Miticide | Propargite.
WA910033 | Comite Agricultural Miticide | Propargite.

Table 4 of this unit includes the names and addresses of record for all registrants of the products in Tables 1, 2, and 3 of this unit, in sequence by EPA company number. This number corresponds to the first part of the EPA registration numbers of the products listed in Tables 1, 2, and 3 of this unit.

Table 4—Registrants of Cancelled Products
EPA Company No. | Company name and address
56 | Eaton JT and Company Inc, 1393 E. Highland Road, Twinsburg, OH 44087.
400 | Chemtura Corp., Attn: Crop Registration, 199 Benson Road, Middlebury, CT 06749.
1020 | Chemetall US, Inc., 675 Central Avenue, New Providence, NJ 07974-0007.
1022 | IBC Manufacturing Co., 416 E. Brooks Rd, Memphis, TN 38109.
1448 | Buckman Laboratories Inc., 1256 North Mclean Blvd, Memphis, TN 38108.
3377 | Albermarle Corporation, 451 Florida Street, Baton Rouge, LA 70801-1765.
5481 | Amvac Chemical Corporation, 4695 MacArthur Court, Suite 1250, Newport Beach, CA 92660.
5785 | Great Lakes Chemical Corporation, Agent: Chemtura Corporation, 1801 Highway 52 West, West Lafayette, IN 47906.
6836 | Lonza Inc., 90 Boroline Rd., Allendale, NJ 07401.
7792 | Roebic Laboratories, Inc., Agent: Landis International, Inc., 3185 Madison Highway,, P.O. Box 5126, Valdosta, GA 31605-5126.
8622 | ICL-IP America, Inc., 95 MacCorkle Avenue, Southwest, South Charleston, WV 25303.
9688 | Chemsico, Div of United Industries Corp, P.O. Box 142642, St Louis, MO 63114-0642.
43813 | Janssen PMP Janssen Pharmaceutica NV, 1125 Trenton-Harbourton Road, Titusville, NJ 08560-0200.
47000 | Chem-Tech, LTD., 4515 Fleur Dr., #303, Des Moines, Iowa 50321.
47371 | H & S Chemicals Division, c/o Lonza Inc., 90 Boroline Road, Allendale, NJ 07401.
48273 | Marman USA Inc., Agent: Nufarm Inc., 150 Harvester Drive, Suite 200, Burr Ridge, IL 60527.
62719 | Dow Agrosciences LLC, 9330 Zionsville Rd, 308/2E, Indianapolis, IN 46268-1054.
73049 | Valent Biosciences Corp., 870 Technology Way, Suite 100, Libertyville, IL 60048-6316.
CA780167; CA940008; DE040003; ID070010; ID070013; ID910015; ID940011; ID970015; KS950001; MT900001; ND050005; NV870009; OR080010; OR080015; OR080029; OR080030; SC910003; TN080006; TX940006; UT960006; WA040020; WA070009; WA070011; WA870029; WA910033 | Chemtura Corp., Attn: Crop Registration, 199 Benson Road (2-5), Middlebury CT 06749.

III. Summary of Public Comments Received and Agency Response to Comments

During the public comment period provided, EPA received no comments in response to the May 4, 2011 Federal Register notice announcing the Agency's receipt of the requests for voluntary cancellations of products listed in Tables 1, 2, and 3 of Unit II.

IV. Cancellation Order

Pursuant to FIFRA section 6(f), EPA hereby approves the requested cancellations of the registrations identified in Tables 1, 2, and 3 of Unit II. Accordingly, the Agency hereby orders that the product registrations identified in Tables 1, 2, and 3 of Unit II are cancelled. The effective date of the cancellations that are the subject of this notice is July 8, 2011. Any distribution, sale, or use of existing stocks of the products identified in Tables 1, 2, and 3 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be cancelled or amended to terminate one or more uses. FIFRA further provides that, before acting on the request, EPA must publish a notice of receipt of any such request in the Federal Register. Thereafter, following the public comment period, the EPA Administrator may approve such a request. The notice of receipt for this action was published for comment in the Federal Register of May 4, 2011 (76 FR 25334) (FRL-8870-5). The comment period closed on June 3, 2011.

VI. Provisions for Disposition of Existing Stocks

Existing stocks are those stocks of registered pesticide products which are currently in the United States and which were packaged, labeled, and released for shipment prior to the effective date of the cancellation action. The existing stocks provisions for the products subject to this order are as follows:

A. Registrations Listed in Table 1 of Unit II Except Nos. 000056-00056 and 000056-00069

The Agency anticipates allowing registrants to sell and distribute existing stocks of these products until July 9, 2012. Thereafter, registrants will be prohibited from selling or distributing the pesticides identified in Table 1 of Unit II., except for export consistent with FIFRA section 17 or for proper disposal. Persons other than registrants are allowed to sell, distribute, or use existing stocks until such stocks are exhausted, provided that such sale, distribution, or use is consistent with the terms of the previously approved labeling on, or that accompanied, the cancelled products.

B. Registration Nos. 000056-00056 and 000056-00069

All sale or distribution of existing stocks by the registrants is prohibited after July 8, 2011, except for export consistent with FIFRA section 17 or for proper disposal. Persons other than registrants are allowed to sell, distribute, or use existing stocks until such stocks are exhausted, provided that such sale, distribution, or use is consistent with the terms of the previously approved labeling on, or that accompanied, the cancelled products.

C. Registrations Listed in Table 2 of Unit II

All sale or distribution of existing stocks by the registrants is prohibited after July 8, 2011, unless that sale or distribution is solely for the purpose of facilitating disposal or export of the products.

Existing stocks may be sold and distributed by persons other than the registrant until November 7, 2011. Existing stocks may be used until exhausted, provided that such use complies with the EPA-approved label and labeling of the products.

D. Registrations Listed in Table 3 of Unit II

Registrants are allowed to sell and distribute existing stocks of these products until January 15, 2012, 1 year after the date on which the maintenance fee was due. Thereafter, registrants will be prohibited from selling or distributing the pesticides identified in Table 3 of Unit II., except for export consistent with FIFRA section 17 or for proper disposal. Persons other than registrants are allowed to sell, distribute, or use existing stocks until such stocks are exhausted, provided that such sale, distribution, or use is consistent with the terms of the previously approved labeling on, or that accompanied, the cancelled products.

List of Subjects

Environmental protection, Pesticides and pests.

Dated: June 29, 2011.
Richard P. Keigwin, Jr.,
Director, Pesticide Re-Evaluation Division, Office of Pesticide Programs.

[FR Doc. 2011-17089 Filed 7-7-11; 8:45 am]

BILLING CODE 6560-50-P